DEPARTMENT OF HOMELAND SECURITY

Coast Guard

33 CFR Part 165

[Docket No. USCG- 2018-1022]

Safety Zone; Lower Mississippi River, Mile Markers 94 to 95 Above Head of Passes, New Orleans, LA

AGENCY: Coast Guard, DHS.

ACTION: Notice of enforcement of regulation.

SUMMARY: The Coast Guard will enforce a safety zone for a fireworks display located between mile marker (MM) 94 and (MM) 95, above Head of Passes. This action is needed to provide for the safety of life on navigable waterways during this event.

DATES: The regulations in 33 CFR 165.845 will be enforced from 8:15 p.m. through 9:15 p.m. on December 29, 2018.

FOR FURTHER INFORMATION CONTACT: If you have questions about this notice of enforcement, call or email Lieutenant Commander Benjamin Morgan, Sector New Orleans, U.S. Coast Guard; telephone 504-365-2281, email Benjamin.P.Morgan@uscg.mil.

SUPPLEMENTARY INFORMATION: The Coast Guard will enforce the safety zone located in 33 CFR 165.845 for the fireworks display from 8:15 p.m. through 9:15 p.m. on December 29, 2018. This action is being taken to provide for the safety of life on navigable waterways during this event. Our regulation for marine events within the Eighth Coast Guard District, § 165.845, specifies the location of the regulated area between mile markers 94 and 95 above Head of Passes on the Lower Mississippi River. If you are the operator of a vessel in the regulated area you must comply with directions from the Patrol Commander or any Official Patrol displaying a Coast Guard ensign.

In addition to this notice of enforcement in the Federal Register, the Coast Guard plans to provide notification of this enforcement period via the local notice to mariners and marine information broadcasts.

Dated: November 16, 2018.
K.M. Luttrell,
Captain, U.S. Coast Guard, Captain of the Port Sector New Orleans.

[FR Doc. 2018-25434 Filed 11-21-18; 8:45 am]

BILLING CODE 9110-04-P